DEPARTMENT OF AGRICULTURE

Rural Utilities Service

Minnkota Power Cooperative, Inc.: Notice of Availability of an Environmental Assessment

AGENCY: Rural Utilities Service, USDA.

ACTION: Notice of availability of an Environmental Assessment.

SUMMARY: The Rural Utilities Service (RUS) has issued an Environmental Assessment (EA) to meet its responsibilities under the National Environmental Policy Act (NEPA), the Council on Environmental Quality's (CEQ) regulations for implementing NEPA (40 CFR parts 1500-1508), and RUS's Environmental and Policies and Procedures (7 CFR part 1794) in connection with potential impacts related to a proposal by Minnkota Power Cooperative, Inc. (Minnkota) with headquarters in Grand Forks, North Dakota. The proposal consists of the construction of approximately 260 miles of 345 kilovolt (kV) transmission line in North Dakota between the Center 345 kV Substation (located northeast of the Milton R. Young Generation Station, near Center, North Dakota) and the Prairie Substation (located west of Grand Forks, North Dakota). Minnkota is requesting financial assistance from RUS for the proposal.

DATES: Written comments on this Notice must be received on or before December 13, 2010.

ADDRESSES: To obtain copies of the EA or for further information, contact: Mr. Dennis Rankin, Environmental Protection Specialist, USDA/RUS, 1400 Independence Ave., SW., Room 2244-S, Stop 1571, Washington, DC 20250-1571, fax: (202) 690-0649, or e-mail: dennis.rankin@wdc.usda.gov. A copy of the EA will be available for public review at the Agency's address provided in this Notice, at the Agency's Web site: http://www.usda.gov/rus/water/ees/ea.htm#Minnkota_Power_Cooperative,_Inc._, and at the following repositories:

Building location | Address | Phone
Aneta Public Library | 11995 19th St., Aneta, ND 58212 | 701-326-4505
Bismarck's Veterans Memorial Library | 515 N. 5th St., Bismarck, ND 58501-4057 | 701-355-1480
City of Carrington Library | 55 9th Ave., Carrington, ND 58421-2017 | 701-652-3921
Goodrich Public Library | 122 McKinley Ave., Goodrich, ND 58444 | 701-884-2632
Grand Forks Library | 2110 Library Circle, Grand Forks, ND 58201-6324 | 701-772-8116
Griggs County Library | 902 Burrel Ave., Cooperstown, ND 58425-0546 | 701-797-2241
Harvey Public Library | 119 10th St., Harvey, ND 58341-1531 | 701-324-2156
Mayville Library | 52 Center Ave. N., Mayville, ND 58257 | 701-788-3388
New Rockford Public Library | 811 First Ave. N., New Rockford, ND 58356 | 701-947-5540
Northwood Public Schools and City Library | 204 N Doheny St., Northwood, ND 58267 | 701-587-5221
Oliver County Auditor | 115 West Main, Hensler, ND 58530 | 701-794-8777
Sheridan County Auditor | 215 East 2nd St., McClusky, ND 58463 | 701-363-2205
Turtle Lake Public Library | 107 Eggert St., Turtle Lake, ND 58575-0637 | 701-448-9170
Washburn Public Library | 705 Main Ave., Washburn, ND 58577-0637 | 701-462-8180

SUPPLEMENTARY INFORMATION: Minnkota proposes to construct the following for the project: (1) Construct approximately 260 miles of 345 kV transmission line between the Center 345 kV Substation (located northeast of the Milton R. Young Generation Station, near Center, North Dakota) and the Prairie Substation (located west of Grand Forks, North Dakota), (2) modification of three existing substations (Center 345 kV, Square Butte 230 kV, and Prairie Substations), (3) construction of about 1,500 feet of 230 kV tie line, (4) relocation of transmission line structures at the Center 345 kV and Prairie Substations, and (5) other associated facilities. It is anticipated that the facility would be in service in 2013. A Notice of Intent to prepare an EA and hold scoping meetings was published in the Federal Register on October 30, 2009. Public meetings were held during the week of November 16, 2009. A summary of public comments can be found at the Agency's Web site listed in this Notice.

An EA that describes the proposal in detail and discusses its anticipated environmental impacts has been prepared by Minnkota and HDR Engineering, Inc. RUS has reviewed and accepted the document as its EA of the proposal. The EA is available for public review at the addresses provided in this Notice.

Questions and comments should be sent to RUS at the mailing or e-mail addresses provided in this Notice. RUS should receive comments on the EA in writing by December 13, 2010 to ensure that they are considered in its environmental impact determination. Should RUS, based on the EA of the proposal, determine that the impacts of the construction and operation of the proposal would not have a significant environmental impact, it will prepare a Finding of No Significant Impact. Public notification of a Finding of No Significant Impact would be published in the Federal Register and in newspapers with circulation in the proposal area.

Any final action by RUS related to the proposal will be subject to, and contingent upon, compliance with all relevant Federal, State and local environmental laws and regulations, and completion of the environmental review requirements as prescribed in RUS's Environmental Policies and Procedures (7 CFR part 1794).

Dated: November 8, 2010.
Mark S. Plank,
Director, Engineering and Environmental Staff, USDA, Rural Utilities Service.

[FR Doc. 2010-28563 Filed 11-10-10; 8:45 am]

BILLING CODE P